DEPARTMENT OF ENERGY

Senior Executive Service; Performance Review Board

AGENCY: U.S. Department of Energy.

ACTION: SES Performance Review Board Standing Register.

SUMMARY: This notice provides the Performance Review Board Standing Register for the Department of Energy. This listing supersedes all previously published lists of PRB members.

DATES: Effective Date: These appointments are effective as of September 22, 2008.

ADAMS, VINCENT NMN

ALLISON, JEFFREY M

AMARAL, DAVID M

ANDERSON, CYNTHIA V

ANDERSON, MARGOT H

ANGULO, VERONICA A

AOKI, STEVEN NMN

ARMSTRONG, DAVID J

ASCANIO, XAVIER NMN

BACA, MARK C

BAKER, KENNETH E

BARKER JR, WILLIAM L

BARWELL, OWEN F

BASHISTA, JOHN R

BATTERSHELL, CAROL J

BAUER, CARL O

BEAMON, JOSEPH A

BEARD, JEANNE M

BEARD, SUSAN F

BEAUDRY-LOSIQUE, JACQUES A

BECK, ANDREW C

BEKKEDAHL, LARRY N

BELMAR, WARREN NMN

BERKOWITZ, BARRY E

BIENIAWSKI, ANDREW J

BIONDO, SAMUEL J

BISCONTI, GIULIA R

BLACK, RICHARD L

BLACK, STEVEN K

BOARDMAN, KAREN L

BOBECK, JEFFREY L

BOND, DENNIS D

BONILLA, SARAH J

BORGSTROM, CAROL M

BORGSTROM, HOWARD G

BOSCO, PAUL NMN

BOULDEN III, JOHN S

BOYD, DAVID O

BOYD, GERALD G

BOYKO, THOMAS R

BOYLE, WILLIAM J

BRAIRTON, MICHAEL A

BRESE, ROBERT F

BREWER, STEPHANIE J

BROCKMAN, DAVID A

BROMBERG, KENNETH M

BROTT, MATTHEW J

BROWN III, ROBERT J

BROWN, FRED L

BROWN, STEPHANIE H

BROWN, THOMAS E

BRYAN, WILLIAM N

BURCH, LINDA C

BURNS, ALLEN L

BURROWS, CHARLES W

BUTTRESS, LARRY D

CADIEUX, GENA E

CALLAHAN, SAMUEL N

CAMPBELL II, HUGH T

CAMPBELL, DAVID A

CAMPIONE, CHRISTOPHER J

CANNON, SCOTT C

CARABETTA, RALPH A

CARDINALI, HENRY A

CAROSINO, ROBERT M

CARY, STEVEN V

CAVANAGH, JAMES J

CERVENY, THELMA J

CHACEY, KENNETH A

CHALK, STEVEN G

CHARBONEAU, STACY L

CHECK, PETER L

CHUNG, DAE Y

CISNEROS, ADRIENNE L

CLAPPER, DANIEL R

CLARK, DIANA D

CLARK, LARRY W

COCHRAN, DIANE P

COHEN, DANIEL NMN

COLLARD, GEORGE W

COLLAZO, YVETTE T

CONNOR, MICHAEL A

CONTI, JOHN J

COOK, JOHN S

COOKE JR, KEVIN R

CORBIN, ROBERT F

COREY, RAY J

COSTLOW, BRIAN D

CRAIG JR, JACKIE R

CRANDALL, DAVID H

CRAWFORD, DAVID W

CRAWFORD, GLEN D

CROUTHER, DESI A

CUEVAS, STEVEN J

CUGINI, ANTHONY V

DAUB, VERNON NMN

DAVIS, KIMBERLY A

DECKER, ANITA J

DEDIK, PATRICIA NMN

DEENEY, CHRISTOPHER NMN

DEHAVEN, DARREL S

DEHMER, PATRICIA M

DEHORATIIS JR, GUIDO NMN

DELWICHE, GREGORY K

DER, VICTOR K

DESMOND, WILLIAM J

DIAMOND, BRUCE M

DICAPUA, MARCO S

DICKERSON, PAUL H

DIFIGLIO, CARMEN NMN

DIXON, ROBERT K

DYER, J RUSSELL

ECKROADE, WILLIAM A

EDGERTON, PATRICK D

EGGER, MARY H

EHLI, CATHY L

EKIMOFF, LANA NMN

ELY, LOWELL V

ERHART, STEVEN C

ERICKSON, LEIF NMN

ESCHENBERG, JOHN R

FAUL, JERRY W

FERRARO, PATRICK M

FIORE, JAMES J

FISCHETTI, MICHAEL P

FOLEY, KATHLEEN Y

FOLEY, THOMAS C

FRANCO JR., JOSE R

FRANKLIN, RITA R

FRANTZ, DAVID G

FRAZIER, TIMOTHY A

FREDRIKSEN, KATHARINE A

FRESCO, MARY ANN E

FURRER, ROBIN R

FURSTENAU, RAYMOND V

FYGI, ERIC J

GARCIA, DONALD J

GASPEROW, LESLEY A

GEISER, DAVID W

GELLES, CHRISTINE M

GENDRON, MARK O

GERRARD, JOHN E

GIBBS, ROBERT C

GIBSON JR, WILLIAM C

GILBERTSON, MARK A

GILLO, JEHANNE E

GIST, WALTER J

GLENN, DANIEL E

GOLAN, PAUL M

GOLDSMITH, ROBERT NMN

GOLUB, SAL JOSEPH

GOODRUM, WILLIAM S

GOODWIN, KARL E

GORDON, THEANNE E

GOTTLIEB, PAUL A

GREENAUGH, KEVIN C

GREENBERG, RAYMOND F

GREENWOOD, JOHNNIE D

GRUENSPECHT, HOWARD K

GUEVARA, ARNOLD E

GUEVARA, KAREN C

HANDWERKER, ALAN I

HANNIGAN, JAMES J

HARDING, TODD K

HARDWICK JR, RAYMOND J

HARRELL, JEFFREY P

HARRINGTON, PAUL G

HARRIS, ROBERT J

HARTMAN, JOHN R

HARVEY, STEPHEN J

HASS, RICKEY R

HEGBURG, ALAN S

HENNEBERGER, KAREN O

HENNEBERGER, MARK W

HENRY, EUGENE A

HERRERA, C ROBERT D

HICKOK, STEVEN G

HINE, SCOTT E

HINTZE, DOUGLAS E

HODSON, PATRICIA J

HOFFMAN, DENNIS J

HOFFMAN, PATRICIA A

HOLLAND, MICHAEL D

HOLLAND, WENDOLYN S

HOLLRITH, JAMES W

HUDSON, JODY L

HUFFER, WARREN L

HUIZENGA, DAVID G

HUNTEMAN, WILLIAM J

HUTTO III, F CHASE

INGOLS, ADAM B

JENKINS, ROBERT G

JOHNSON, DAVID F

JOHNSON, ROBERT SHANE

JOHNSON, SANDRA L

JOHNSTON, MARC NMN

JONAS, DAVID S

JONES, GREGORY A

JONES, MARCUS E

JUAREZ, LIOVA D

KAEMPF, DOUGLAS E

KANE, MICHAEL C

KEARNEY, JAMES H

KELLY, LARRY C

KENDELL, JAMES M

KESELBURG, JAMES D

KIDD IV, RICHARD G

KIGHT, GENE H

KILPATRICK, MICHAEL A

KILROY, EDWARD F

KLARA, SCOTT M

KLAUSING, KATHLEEN A

KLING, JON NMN

KNOLL, WILLIAM S

KNOX, ERIC K

KOLB, INGRID A C

KONOPNICKI, THAD T

KOPPLE, SCOTT A

KOURY, JOHN F

KOUTS, CHRISTOPHER A

KOVAR, DENNIS G

KRAHN, STEVEN L

KROL, JOSEPH J

KUNG, HUIJOU HARRIET

KUPFER, JEFFREY F

KUSNEZOV, DIMITRI F

LAGDON JR, RICHARD H

LAMBERT, JAMES B

LANGE, ROBERT G

LANTHRUM, J GARY

LAWRENCE, ANDREW C

LAWRENCE, STEVEN J

LAY, WILLIAM G

LAZOR, JOHN D

LEATHLEY, KIMBERLY A

LEE, STEVEN NMN

LEE, TERRI TRAN

LEGG, KENNETH E

LEHMAN, DANIEL R

LEMPKE, MICHAEL K

LERSTEN, CYNTHIA A

LEVITAN, WILLIAM M

LEWIS III, CHARLES B

LEWIS JR, WILLIAM A

LEWIS, ROGER A

LINGAN, ROBERT M

LISOWSKI, PAUL W

LIVENGOOD, JOANNA M

LOWE, OWEN W

LOYD, RICHARD NMN

LUCZAK, JOANN H

LUSHETSKY, JOHN M

LUTHA, RONALD J

LUTZE, NEILE MILLER

MACINTYRE, DOUGLAS M

MAHARAY, WILLIAM S

MALOSH, GEORGE J

MARCINOWSKI III, FRANK NMN

MARLAY, ROBERT C

MARMOLEJOS, POLI A

MARTINEZ, ELOY DENNIS

MCCLOUD, FLOYD R

MCCLUER, MEGAN S

MCCONNELL, JAMES J

MCCORMICK, MATTHEW S

MCCRACKEN, STEPHEN H

MCGINNIS, EDWARD G

MCGUIRE, PATRICK W

MCKEE, BARBARA N

MCKENZIE, JOHN M

MCRAE, JAMES BENNETT

MEACHAM, A AVON

MEEKS, TIMOTHY J

MELLINGTON, SUZANNE P

MILLER, CLARENCE L

MILLER, DEBORAH C

MILLER, WENDY L

MILLIKEN, JOANN NMN

MIOTLA, DENNIS M

MIZROCH, JOHN F

MONETTE, DEBORAH D

MONTANO, PEDRO A

MONTOYA, ANTHONY H

MOODY III, DAVID C

MOORE, JOHNNY O

MOORER, RICHARD F

MOREDOCK, J EUN

MORTENSON, VICTOR A

MOSS, ADRIANNE L

MUELLER, TROY J

MURPHIE, WILLIAM E

MUSTIN, TRACY P

NAPLES, ELMER M

NASSIF, ROBERT J

NEUHOFF, JON W

NEUMAYR, MARY BRIDGET C

NEWMAN, LARRY NMN

NICOLL, ERIC G

NOLAN, ELIZABETH A

NORMAN, PAUL E

NOUSEN, DOUGLAS L

O'CONNOR, THOMAS J

O'KONSKI, PETER J

OLENCZ, JOSEPH NMN

OLINGER, SHIRLEY J

OLIVER, LAWRENCE R

OLIVER, STEPHEN R

OOSTERMAN, CARL H

OSHEIM, ELIZABETH L

OTT, MERRIE CHRISTINE

OVERTON, CHRISTOPHER G

OWEN, MICHAEL W

OWENDOFF, JAMES M

PALMISANO, ANNA C

PARNES, SANFORD J

PAVETTO, CARL S

PEASE, HARRISON G

PENRY, JUDITH M

PERSON JR, GEORGE L

PETERSON, BRADLEY A

PHOEBE, CHRISTINE A

PIEPER, FREDRICK G

PODONSKY, GLENN S

PORTER, STEVEN A

POWERS, KENNETH W

PROVENCHER, RICHARD B

PURUCKER, ROXANNE E

PYKE JR, THOMAS N

RAINES, ROBERT B

RAMSEY, CLAY HARRISON

RHEAUME, CYNTHIA A

RHODERICK, JAY E

RICHARD, MICHAEL T

RICHARDS, AUNDRA M

RICHARDSON, HERBERT NMN

ROACH, RANDY A

RODGERS, DAVID E

RODGERS, STEPHEN J

ROEGE, WILLIAM H

ROHLFING, ERIC A

RUSSO, FRANK B

SALMON, JEFFREY T

SAVAGE, CARTER D

SCHEINMAN, ADAM M

SCHMITZ, THOMAS A

SCHNAPP, ROBERT M

SCHOENBAUER, MARTIN J

SCHWARTZ, DOUGLAS H

SCHWIER, JEAN F

SCOTT, RANDAL S

SEDILLO, DAVID NMN

SELLERS, ELIZABETH D

SHAFIK, CHRISTINE M

SHARPLEY, CHRISTOPHER R

SHEARER, C RUSSELL H

SHEELY, KENNETH B

SHEPPARD, CATHERINE M

SHERRY, THEODORE D

SHOOP, DOUG S

SILVERSTEIN, BRIAN L

SIMONSON, STEVEN C

SIMPSON, EDWARD R

SITZER, SCOTT B

SKUBEL, STEPHEN C

SLUTZ, JAMES A

SMITH, BARRY ALAN

SMITH, KEVIN W

SMITH, THOMAS Z

SMITH-KEVERN, REBECCA F

SNIDER, ERIC S

SNIDER, LINDA J

SPAMPINATO, FRANCIS C

SPEARS, TERREL J

STAKER, THOMAS R

STALLMAN, ROBERT M

STARK, RICHARD M

STARNES, ALBERT J

STATON, CARL P

STONE, BARBARA R

STOUT, DANIEL P

STRAYER, MICHAEL R

STREIT, LISA D

SURASH, JOHN E

SWEETNAM, GLEN E

SWIFT, JUSTIN R

SYKES, MERLE L

TALBOT JR, GERALD L

TAYLOR, HUGH N

TAYLOR, STEVE C

TAYLOR, WILLIAM J

TERIBURY, MICHAEL J

THOMPSON, MICHAEL A

THRESS JR, DONALD F

TOMER, BRADLEY J

TORKOS, THOMAS M

TOWNE, LAWRENCE H

TRAUTMAN, STEPHEN J

TRIAY, INES R

TUCKER, CRAIG A

TURI, JAMES A

TYNER, TERESA M

UNDERWOOD, WILLIAM R

VALDEZ, WILLIAM J

VANZANDT, VICKIE A

VAVOSO, THOMAS G

WADDELL, JOSEPH F

WAGNER, M PATRICE

WAISLEY, SANDRA L

WALL, EDWARD JAMES

WARD, GARY K

WARNICK, WALTER L

WEAKLEY, STEPHANIE F

WEEDALL, MICHAEL J

WEIS, MICHAEL J

WELLING, DAVID CRAIG

WELLS, RITA L

WESTON-DAWKES, ANDREW P

WHITAKER JR, MARK B

WHITENTON, MARSHALL E

WHITNEY, JAMES M

WHITTED, LINDA F

WILBANKS, LINDA R

WILBER, DEBORAH A

WILCHER, LARRY D

WILKEN, DANIEL H

WILKES, BRYAN K

WILLIAMS, ALICE C

WILLIAMS, MARK H

WILLIAMS, RHYS M

WILMOT, EDWIN L

WILSON JR, THOMAS NMN

WINCHELL JR, DONALD L

WORLEY, MICHAEL N

WORTHINGTON, JON C

WORTHINGTON, PATRICIA R

WRIGHT, STEPHEN J

WU, CHUAN-FU NMN

YOSHIDA, PHYLLIS G

YUAN-SOO HOO, CAMILLE C

ZAMORSKI, MICHAEL J

ZEH, CHARLES M

Sarah J. Bonilla,
Director, Office of Human Capital Management.

[FR Doc. E8-23847 Filed 10-7-08; 8:45 am]

BILLING CODE 6450-01-P